DEPARTMENT OF THE INTERIOR

Bureau of Land Management

[NV-056-5101-EQ F186; N-81843]

Notice of Realty Action: Airport Lease and Non-Competitive (Direct) Sale in Searchlight, NV

AGENCY: Bureau of Land Management, Interior.

ACTION: Notice of Realty Action.

SUMMARY: The Bureau of Land Management (BLM) proposes to initially lease and then convey 21.4 acres of public land located south of the town of Searchlight, Nevada, for a public airport. An existing airport is located on public and private lands, and the center portion of the airport runway is located on lands currently owned by Searchlight Airpark Developers, LLC (Searchlight). Searchlight proposes to develop a residential airpark on the remaining portion of its private lands and use its 1,600 feet of private runway in conjunction with the 3,700 feet of runway located on public lands. Searchlight has requested that the existing airport runway be leased and then conveyed to it at the appraised fair market value of the land. At a future date, the BLM proposes to sell the 21.4 acres of public airport runway to Searchlight by non-competitive (direct) sale at not less than the appraised fair market value. The sale of the airport runway will require a cadastral survey and updated appraisal prior to conveyance.

DATES: On or before September 10, 2007, interested parties may submit written comments concerning the proposed airport lease and direct sale to the BLM Field Manager, Las Vegas Field Office, at the address stated below. Facsimiles, telephone calls, and electronic mails are unacceptable means of notification.

ADDRESSES: Las Vegas Field Office, Bureau of Land Management, 4701 N. Torrey Pines Drive, Las Vegas, NV 89130.

FOR FURTHER INFORMATION CONTACT: Shawna Woods, Realty Specialist, at (702) 515-5099.

SUPPLEMENTARY INFORMATION: On February 1, 1965, Clark County, Nevada, submitted an application for an airport lease near Searchlight, Nevada. The land was determined to be suitable for airport purposes, and a lease (Nev—065340) was issued to Clark County on May 17, 1965, for a 20-year term. The lease was renewed on May 16, 1985, for an additional 20-year term. On November 10, 1986, airport regulations were amended to require that rental values be determined by appraised fair market value. The lease expired on May 15, 2005, and Clark County has decided not to renew.

The existing runway is approximately 5,300 feet long, of which approximately 1,600 feet in the center of the runway is owned by Searchlight through two patented mining claims. Searchlight has applied for an airport lease for 21.4 acres, which constitutes the remaining approximately 3,700 feet of the runway. The subject 21.4 acre parcel would be leased at an appraised fair market value of $23,200 annually as determined by a BLM-approved appraisal.

Searchlight has also requested direct sale of the same parcel. The subject parcel will require a cadastral survey prior to conveyance and would be offered for sale at no less than appraised fair market value based on an updated BLM-approved appraisal. The land meets the criteria for direct sale pursuant to 43 CFR 2711.3-3(a)(2), (3), and (4).

The following described land in Clark County has been examined and found suitable for airport lease and direct sale pursuant to Sections 203 and 302 of the Federal Land Policy and Management Act of 1976 (FLPMA) P.L. 94-579, as amended, 43 U.S.C. 1713 and 1732 and 43 CFR Subparts 2711 and 2911.

Mount Diablo Meridian

T. 29 S., R. 63 E.,

Sec. 2 lots 18, 19, and 20;

Sec. 11, NE¼ and N½SE¼.

The area described contains approximately 21.4 acres in Clark County.

This proposed action is in conformance with the BLM Las Vegas Resource Management Plan, approved on October 5, 1998. The plan has been reviewed and it is determined the proposed action conforms with land use plan decision LD-1 and 2a established in accordance with Sections 203 and 302 of FLPMA, as amended (43 U.S.C. 1713 and 1732).

Issuance of an airport lease is being proposed and is considered appropriate. Regulation 43 CFR 2911.0-8 states that “any contiguous unreserved and unappropriated public lands, surveyed or unsurveyed, not exceeding 2,560 acres in area, may be leased under the provisions of the Act [of May 24, 1928, 49 U.S.C. Appendix 211-213], subject to valid existing rights under the public land laws.”

The land will be subject to the following:

1. A reservation of a right-of-way thereon for ditches or canals constructed by the authority of the United States, Act of August 30, 1890 (26 Stat. 391, 43 U.S.C. 945);

2. A reservation to the United States of all minerals together with the right to prospect for, mine, and remove such deposits from the above-described lands under applicable law and such regulations as the Secretary of the Interior may prescribe;

3. Valid existing rights of record, including, but not limited to those documented on the BLM public land records at the time of lease and conveyance;

4. Rights for a power transmission line, telephone line, and roads granted to So. Cal. Metro Water District, its successors and assigns, by BLM right-of-way No. CC-018307, pursuant to the Act of December 21, 1928 (45 Stat. 1057; 43 U.S.C. 617d);

5. Rights for an underground fiber optic line and regeneration facilities granted to AT&T, its successors and assigns, by BLM right-of-way No. 52050, pursuant to Title V of FLPMA (90 Stat. 2776; 43 U.S.C. 1761);

6. Rights for an underground fiber optic line and regeneration facilities granted to Central Telephone, its successors and assigns, by BLM right-of-way No. 52985, pursuant to Title V of FLPMA (90 Stat. 2776; 43 U.S.C. 1761);

7. Rights for a fiber optic line and regeneration facilities granted to Electric Lightwave, Inc., its successors and assigns, by BLM right-of-way No. 58566, pursuant to Title V of FLPMA (90 Stat. 2776; 43 U.S.C. 1761);

8. Rights for an underground fiber optic line granted to IXC Carrier Group, Inc., its successors and assigns, by BLM right-of-way No. 61851, pursuant to Title V of FLPMA (90 Stat. 2776; 43 U.S.C. 1761);

9. Rights for an aerial powerline granted to Central Telephone, its successors and assigns, by BLM right-of-way No. Nev-057664, pursuant to Title V of FLPMA (90 Stat. 2776; 43 U.S.C. 1761).

The lessee/patentee by accepting a lease and/or patent, covenants and agrees to indemnify, defend, and hold the United States harmless from any costs, damages, claims, causes of action, penalties, fines, liabilities, and judgments of any kind or nature arising from the past, present, or future acts or omissions of the lessee/patentee, its employees, agents, contractors, lessees, or any third-party, arising out of or in connection with the lessee/patentee's use, occupancy, or operations on the real property which has already resulted or does hereafter result in: (1) Violations of Federal, State, and local laws and regulations that are now, or may in the future become, applicable to the real property and/or applicable to the use, occupancy, and/or operations thereon; (2) Judgments, claims, or demands of any kind assessed against the United States; (3) Costs, expenses, or damages of any kind incurred by the United States; (4) Releases or threatened releases of solid or hazardous waste(s) and/or hazardous substance(s), pollutant(s) or contaminant(s), and/or petroleum product or derivative of a petroleum product, as defined by Federal and State environmental laws, off, on, into, or under land, property, and other interests of the United States; (5) Activities by which solid or hazardous substance(s) or waste(s), pollutant(s) or contaminant(s), and/or petroleum product or derivative of a petroleum product, as defined by Federal and State environmental laws, are generated, released, stored, used, or otherwise disposed of on the leased/patented real property, and any cleanup response, remedial action, or other actions related in any manner to said solid or hazardous substance(s) or waste(s), pollutant(s) or contaminant(s), and/or petroleum product or derivative of a petroleum product; or (6) Natural resource damages as defined by Federal and State law. This covenant shall be structured as running with the above described parcel of real property and may be enforced by the United States in a court of competent jurisdiction.

No warranty of any kind, express or implied is given or will be given by the United States as to the title, physical condition, or potential uses of the land proposed for lease/patent and the conveyance of this land will not be on a contingency basis. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor have any hazardous substances been disposed of or released on the subject property.

Publication of this notice in the Federal Register temporarily segregates the above described land from appropriation under the public land laws, including the mining laws, but not the laws authorizing direct sales or airport leases, 43 U.S.C. 1713, 1732. The segregative effect of this notice will terminate in accordance with 43 CFR 2911.2-3(b) (airport lease) and 43 CFR 2711.1-2(d) (direct sale). Detailed information concerning the proposed lease/patent, including an environmental assessment and the approved appraisal report, is available for review at the BLM Las Vegas Field Office at the address above. The Field Manager, BLM, Las Vegas Field Office, will review the comments of all interested parties concerning the lease/patent. To be considered, comments must be received at the BLM Las Vegas Field Office on or before the date stated above in this notice for that purpose. Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM, Nevada State Director.

In the absence of any adverse comments, the decision will become effective on September 24, 2007. The lands will not be offered for lease/patent until after the decision becomes effective.

(Authority: 43 CFR 2711 and 2911)

Dated: May 2, 2007.
Mark R. Chatterton,
Assistant Field Manager, Non-Renewable Resources, Las Vegas, Nevada.

[FR Doc. E7-14338 Filed 7-24-07; 8:45 am]

BILLING CODE 4310-HC-P